DEPARTMENT OF ENERGY

Federal Energy Regulatory Commission

[Docket No. CP04-13-002]

Saltville Gas Storage Company L.L.C.; Notice of Application To Amend Certificate

September 14, 2004.

On August 2, 2004, Saltville Gas Storage Company L.L.C. (Saltville) submitted a compliance filing pursuant to the Commission's June 14, 2004 “Order Issuing Certificates” in Docket Nos. CP04-13-000, CP04-14-000, and CP04-15-000. Saltville Gas Storage Company L.L.C., 107 FERC ¶ 61,267 (2004). On August 5, 2004 the Commission issued a “Notice of Compliance Filing” in Docket No. CP04-14-002 taking notice of Saltville's August 2, 2004 submittal of a compliance filing. The notice established August 20, 2004 as the deadline for submitting protests to Saltville's compliance filing.

An application to amend the certificate of public convenience and necessity issued in Docket No. CP04-13-000 was also included in Saltville's August 2, 2004 compliance filing. The August 5, 2004 notice did not address the amendment application. Accordingly, Saltville's amendment application is the subject of the instant notice.

Specifically, Saltville's August 2, 2004 compliance filing contains rates designed on the Equitable method as required in the June 14, 2004 Order, as well as rates based on an alternately proposed rate design method. The filing also reflects a lowering of the originally proposed capacity of Saltville's salt storage caverns. Therefore, the Commission is considering Saltville's compliance filing to be, in part, a request in Docket No. CP04-13-002 to amend the certificate of public convenience and necessity issued in Docket No. CP04-13-000. The filing is available for review at the Commission or may be viewed on the Commission's Web site at http://www.ferc.gov using the “eLibrary” link. Enter the docket number excluding the last three digits in the docket number field to access the document. For assistance, please contact FERC Online Support at FERCOnlineSupport@ferc.gov or call toll free at (866)208-3676, or for TTY contact (202) 502-8659.

Any person who filed a motion to intervene in response to Saltville's applications filed on November 10, 2003 does not need to refile a motion to intervene in response to this request for an amendment, but may file additional comments by the comment date below. Otherwise there are two ways to become involved in the Commission's review of the amendment in Docket No. CP04-13-002. First, any person who is not already a party to these proceedings wishing to obtain legal status by becoming a party to the proceedings for this project should, on or before the comment date indicated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission by the date indicated below an original and two copies of their comments in support of or in opposition to this amendment. The Commission will consider these comments in determining the appropriate action to be taken, but the filing of a comment alone will not serve to make the filer a party to the proceeding. The Commission's rules require that persons filing comments in opposition to the amendment provide copies of their protests only to the applicant and any party directly involved in the protest. However, the non-party commentors will not receive copies of all documents filed by other parties or issued by the Commission and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: September 21, 2004.

Linda Mitry,
Acting Secretary.

[FR Doc. E4-2273 Filed 9-20-04; 8:45 am]

BILLING CODE 6717-01-P